DEPARTMENT OF HEALTH AND HUMAN SERVICES

National Institutes of Health

National Heart, Lung, and Blood Institute; Notice of Meeting

Pursuant to section 10(a) of the Federal Advisory Committee Act, as amended, notice is hereby given of a meeting of the Sleep Disorders Research Advisory Board.

The meeting will be open to the public, with attendance limited to space available. Individuals who plan to attend and need special assistance, such as sign language interpretation or other reasonable accommodations, should notify the Contact Person listed below in advance of the meeting.

Name of Committee: Sleep Disorders Research Advisory Board.

Date: August 4, 2022.

Time: 1:00 p.m. to 4:00 p.m.

Agenda: The purpose of this meeting is to update the Advisory Board and public stakeholders on the progress of sleep and circadian research activities across NIH, and the activities of professional societies.

Place: National Institutes of Health, Bethesda, MD (Virtual Meeting).

Telephone Access: 1-669-254-5252 (Meeting ID: 161 168 8607 Passcode: 930955) Virtual Access: https://nih.zoomgov.com/j/1611688607?pwd=d0cxNHZ4RzRPSWF3SU52RUl2eS9CUT09 (Meeting ID: 161 168 8607 Passcode: 930955).

Contact Person: Marishka Brown, MS, Ph.D., Health Scientist Administrator, National Center on Sleep Disorders Research, National Heart, Lung, and Blood Institute, National Institutes of Health, 6701 Rockledge Drive, Room 10183, Bethesda 20814-7952, 301-435-0199, marishka.brown@nih.gov.

Information is also available on the Institute's/Center's home page: www.nhlbi.nih.gov/meetings/index.htm, where an agenda and any additional information for the meeting will be posted when available.

(Catalogue of Federal Domestic Assistance Program Nos. 93.233, National Center for Sleep Disorders Research; 93.837, Heart and Vascular Diseases Research; 93.838, Lung Diseases Research; 93.839, Blood Diseases and Resources Research, National Institutes of Health, HHS)

Dated: June 27, 2022.
David W. Freeman,
Program Analyst, Office of Federal Advisory Committee Policy.

[FR Doc. 2022-14080 Filed 6-30-22; 8:45 am]

BILLING CODE 4140-01-P